DEPARTMENT OF HEALTH AND HUMAN SERVICES

Food and Drug Administration

[Docket No. FDA-2008-N-0450]

Science Board to the Food and Drug Administration; Request for Nominations SUBJECT>

AGENCY: Food and Drug Administration, HHS.

ACTION: Notice.

The Food and Drug Administration (FDA) is requesting nominations to serve on the Science Board to the FDA (Science Board).

FDA has special interest in ensuring that women, minority groups, and individuals with disabilities are adequately represented on advisory committees and, therefore, encourages nominations qualified candidates from these groups.

DATES: Nominations received on or before October 6, 2008 will be given first consideration for membership on the Science Board. Nominations received after October 6, 2008 will be considered for nomination to the Science Board should nominees still be needed.

ADDRESSES: All nomination for membership should be sent electronically to CV@OC.FDA.GOV, or by mail to Advisory Committee Oversight & Management Staff, 5600 Fishers Lane (HF-4), rm. 15A-12, Rockville, MD 20857.

FOR FURTHER INFORMATION CONTACT: Regarding all nomination questions for membership, the primary contact is Carlos Peña, Office of Science and Health Coordination, Office of the Commissioner, Food and Drug Administration (HF-33), 5600 Fishers Lane, Rockville, MD 20857, 301-827-6687, e-mail: carlos.Peña@fda.hhs.gov. Information about becoming a member on a FDA advisory committee can also be obtained by visiting FDA's Web site by using the following link http://www.fda.gov/oc/advisory/default.htm.

SUPPLEMENTARY INFORMATION: FDA is requesting nominations to the Science Board. The Science Board will meet approximately four times a year. Meetings of the Science Board will be open to the public. All meetings will be announced in the Federal Register at least 15 days prior to each scheduled public meeting.

I. General Function of the Committee

The Science Board shall provide advice primarily to the Commissioner and other appropriate officials on specific complex and technical issues as well as emerging issues within the scientific community. Additionally, the Science Board will provide advice to the Agency on keeping pace with technical and scientific evolutions in the fields of regulatory science; on formulating an appropriate research agenda; and on upgrading its scientific and research facilities to keep pace with these changes. It will also provide the means for critical review of Agency sponsored intramural and extramural scientific research programs.

II. Criteria for Members

Persons nominated for membership shall be knowledgeable in the fields of food safety, nutrition, chemistry, pharmacology, toxicology, clinical research, or other scientific disciplines such as systems biology, wireless healthcare devices, nanotechnology, medical imaging, robotics, cell and tissue based products, regenerative medicine, and combination products. Members shall be chosen from academia and industry. The Science Board may include one technically qualified member, selected by the Commissioner or designee, who is identified with consumer interests and is recommended by either a consortium of consumer-oriented organizations or other interested persons. The Science Board may also include technically qualified Federal members.

III. Nomination Procedures

Any interested person may nominate one or more qualified person for membership on the Science Board. Self nominations are also accepted. Nominations shall include the name of the committee, complete curriculum vitae of each nominee, and their current business address and telephone number and e-mail address if available. Each nomination shall state that the nominee is aware of the nomination, is willing to serve as a member, and appears to have no conflict of interest that would preclude membership. FDA will ask the potential candidates to provide detailed information concerning such matters as financial holdings, employment, and research grants and/or contracts to permit evaluation of possible sources of conflict of interest.

This notice is issued under the Federal Advisory Committee Act (5 U.S.C. app. 2) and 21 CFR part 14 relating to advisory committees.

Dated: August 27, 2008.
Randall W. Lutter,
Deputy Commissioner for Policy.

[FR Doc. E8-20574 Filed 9-4-08; 8:45 am]

BILLING CODE 4160-01-S